DEPARTMENT OF TRANSPORTATION

Federal Aviation Administration

14 CFR Part 71

[Docket No. FAA-2007-27332; Airspace Docket No. 07-AWP-2]

Proposed Establishment of Low Altitude Area Navigation Routes (T-Routes); Los Angeles, CA

AGENCY: Federal Aviation Administration (FAA), DOT.

ACTION: Notice of proposed rulemaking (NPRM).

SUMMARY: This action proposes to establish three low altitude Area Navigation (RNAV) routes, designated T-245, T-247, and T-249 in the Los Angeles International Airport, CA, terminal area. T-routes are low altitude Air Traffic Service (ATS) routes, based on RNAV, for use by aircraft having instrument flight rules (IFR) approved Global Positioning System (GPS)/Global Navigation Satellite System (GNSS) equipment. The FAA is proposing this action to enhance safety and improve the efficient use of the navigable airspace in the Los Angeles International Airport, CA, terminal area.

DATES: Comments must be received on or before June 7, 2007.

ADDRESSES: Send comments on this proposal to the Docket Management System, U.S. Department of Transportation, Room Plaza 401, 400 Seventh Street, SW., Washington, DC 20590-0001. You must identify FAA Docket No. FAA-2007-27332 and Airspace Docket No. 07-AWP-2, at the beginning of your comments. You may also submit comments through the Internet at http://dms.dot.gov.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2007-27332 and Airspace Docket No. 07-AWP-2) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2007-27332 and Airspace Docket No. 07-AWP-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's web page at http://www.faa.gov, or the Federal Register's web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Western Service Center, Air Traffic Organization, Federal Aviation Administration, 1601 Lind Avenue, 15000 SW., Renton, WA 98055.

Persons interested in being placed on a mailing list for future NPRM's should contact the FAA's Office of Rulemaking, (202) 267-9677, for a copy of Advisory Circular No. 11-2A, Notice of Proposed Rulemaking Distribution System, which describes the application procedure.

Low Altitude RNAV Route Identification and Charting

Low altitude RNAV routes are identified by the letter “T” prefix followed by a three digit number. The “T” prefix is one of several International Civil Aviation Organization designators used to identify domestic RNAV routes. The FAA has been allocated the letter “T” prefix and the number block 200 to 500 for use in naming these routes. The FAA uses the “T” prefix for RNAV routes in the low altitude en route structure of the National Airspace System.

T-routes are depicted in blue on the appropriate IFR en route low altitude chart(s).

Each route depiction includes a GNSS minimum en route altitude to ensure obstacle clearance and communications reception.

The Proposal

The FAA is proposing an amendment to Title 14 Code of Federal Regulations (14 CFR) part 71 to establish three low altitude RNAV routes in the Los Angeles International Airport, CA, terminal area. The routes would be designated T-245, T-247, and T-249, and would be depicted on the appropriate IFR En Route Low Altitude charts. T-routes are low altitude RNAV ATS routes, similar to Very High Frequency Omnidirectional Range Federal airways, but based on GNSS navigation. RNAV-equipped aircraft capable of filing flight plan equipment suffix “G” may file for these routes.

The T-routes described in this notice are being proposed to enhance safety, and to facilitate the more flexible and efficient use of the navigable airspace for en route IFR operations transitioning through and around the Los Angeles Class B airspace area.

Low altitude RNAV routes are published in paragraph 6011 of FAA Order 7400.9P, dated September 1, 2006 and effective September 15, 2006, which is incorporated by reference in 14 CFR 71.1. The low altitude RNAV routes listed in this document would be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9P, Airspace Designations and Reporting Points, dated September 1, 2006, and effective September 15, 2006, is amended as follows:

Paragraph 6011—Area Navigation Routes

* * * * *

T-245 Seal Beach, CA (SLI) to SILEX [New]
Seal Beach (SLI) | VORTAC | (Lat. 33°47′00″ N., long. 118°03′17″ W.)
POPPR | Fix | (Lat. 33°50′34″ N., long. 118°17′18″ W.)
Santa Monica (SMO) | VOR/DME | (Lat. 34°00′37″ N., long. 118°27′24″ W.)
SILEX | Fix | (Lat. 34°12′04″ N., long. 118°36′39″ W.)
* * * * * * *
T-247 Seal Beach, CA (SLI) to CANOG [New]
Seal Beach (SLI) | VORTAC | (Lat. 33°47′00″ N., long. 118°03′17″ W.)
POPPR | Fix | (Lat. 33°50′34″ N., long. 118°17′18″ W.)
Santa Monica (SMO) | VOR/DME | (Lat. 34°00′37″ N., long. 118°27′24″ W.)
CANOG | Fix | (Lat. 34°13′24″ N., long. 118°35′39″ W.)
* * * * * * *
T-249 Van Nuys, CA (VNY) to Seal Beach, CA [New]
Van Nuys (VNY) | VOR/DME | (Lat. 34°13′24″ N., long. 118°29′30″ W.)
Santa Monica (SMO) | VOR/DME | (Lat. 34°00′37″ N., long. 118°27′24″ W.)
POPPR | Fix | (Lat. 33°50′34″ N., long. 118°17′18″ W.)
Seal Beach (SLI) | VORTAC | (Lat. 33°47′00″ N., long. 118°03′17″ W.)
* * * * *

Issued in Washington, DC, on April 13, 2007.
Edith V. Parish,
Manager, Airspace and Rules Group.

[FR Doc. E7-7633 Filed 4-20-07; 8:45 am]

BILLING CODE 4910-13-P